FEDERAL COMMUNICATIONS COMMISSION

Information Collection Being Submitted for Review and Approval to the Office of Management and Budget

AGENCY: Federal Communications Commission.

ACTION: Notice and Request for comments.

SUMMARY: As part of its continuing effort to reduce paperwork burden and as required by the Paperwork Reduction Act (PRA) of 1995 (44 U.S.C. 3501-3520), the Federal Communications Commission invites the general public and other Federal agencies to comment on the following information collections. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 22, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov). Include in the e-mail the OMB control number of the collection as shown in the SUPPLEMENTARY INFORMATION section below, or if there is no OMB control number, include the Title as shown in the SUPPLEMENTARY INFORMATION section. If you are unable to submit your comments by e-mail, contact the person listed below to make alternate arrangements.

FOR FURTHER INFORMATION CONTACT: For additional information, contact Judith B. Herman at 202-418-0214 or via the Internet at Judith-b.herman@fcc.gov.

SUPPLEMENTARY INFORMATION: OMB Control Number: 3060-0410.

Title: Forecast of Investment Usage Report, FCC Form 495A, and Actual Usage of Investment Report, FCC Form 495B.

Form No.: FCC Reports 495A and 495B.

Type of Review: Extension of a currently approved collection.

Respondents: Business or other for-profit.

Number of Respondents: 70 respondents; 140 responses.

Estimated Time per Response: 40 hours.

Frequency of Response: Annual reporting requirement.

Obligation to Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent local exchange carriers must submit the ARMIS reports to the Commission annually on or before April 1. See Reporting Requirements of Certain Class A and Tier I Telephone Companies (Parts 31, 43, 67 and 69 of the FCC's Rules), CC Docket No. 86182, Order, 2 FCC Rcd 5770 (1987), modified on recon, 3 FCC Rcd 6375 (1988); see also 47 CFR part 43, section 43.21.

Total Annual Burden: 5,600 hours.

Total Annual Cost: N/A.

Privacy Act Impact Assessment: N/A.

Nature and Extent of Confidentiality: The information addresses information of a confidential nature.

Needs and Uses: The Commission will submit this expiring information collection to the Office of Management and Budget (OMB) during this comment period in order to obtain the full three year clearance from them. The Commission is requesting OMB approval for an extension of the previous OMB approval—no change in the reporting requirements.

The 495A Report provides the forecast and resulting investment allocation incorporated in a carrier's cost support for its access tariff. The 495B Report enables the Commission's staff to monitor actual and forecasted investment use, as directed in CC Docket 86-111. The ARMIS Reports 495A and 495B are filed at the study area (jurisdiction), consolidated access tariff area, and at the operating company level. These reports help ensure that the regulated operations of the carriers do not subsidize the nonregulated operations of those same carriers. This information is also a part of the data necessary to support the Commission's audit and other oversight functions. The data provide the necessary detail to enable the Commission to fulfill its regulatory responsibility. There are no changes to the ARMIS Reports 495A and 495B.

Although the Commission has granted conditional forbearance from FCC Reports 495A and 495B, the Commission still seeks continued OMB approval because petitions for reconsideration and review of those forbearance decisions are currently pending before the Commission and the courts, respectively. On April 24, 2008, the Commission in Petition of AT&T Inc. for Forbearance under 47 U.S.C. § 160 from Enforcement of Certain of the Commission's Cost Assignment Rules, WC Docket Nos. 07-21, 05-342, Memorandum Opinion and Order, 23 FCC Rcd 7302 (2008) (AT&T Cost Assignment Forbearance Order), pet for recon. pending, pet. for review pending, NASUCA v. FCC, Case No. 08-1226 (DC Cir. filed June 23, 2008) granted forbearance, subject to conditions, from the statutory provision and Commission rules as requested in the Legacy AT&T and Legacy BellSouth petitions (collectively, “Cost Assignment Rules”). AT&T asked for and the Commission granted forbearance from four of the Commission's reporting requirements—the Access Report (ARMIS 43-04), the Rate of Return Monitoring Report (FCC Form 492), the Reg/Non-Reg Forecast Report (FCC Form 495A) and the Reg/Non-Reg Actual Usage Report (FCC Form 495B)—because forbearance from the Cost Assignment Rules renders these reports meaningless. The Commission had concluded that the various accounting rules were intended to work together to help ensure the primary statutory goal of just and reasonable rates. See Separations of Costs of Regulated Telephone Service from Costs of Nonregulated Activities: Amendment of Part 31, the Uniform System of Accounts for Class A and Class B Telephone Companies to Provide for Nonregulated Activities and to Provide for Transactions Between Telephone Companies and their Affiliates, CC Docket 86-111, Report and Order, 2 FCC Rcd 1298 (1987), petition for review denied, Southwestern Bell Corp v. FCC, 896 F. 2d 1378 (DC Cir. 1990).

In Service Quality, Customer Satisfaction, Infrastructure and Operating Data Gathering, WC Docket Nos. 08-190, 07-139, 07-204, 07-273, 07-21, Memorandum Opinion and Order and Notice of Proposed Rulemaking, 23 FCC Rcd 13647 (2008) (Verizon/Qwest Cost Assignment Forbearance Order), pet. for recon. pending, pet. for review pending, NASUCA v. FCC, Case No. 08-1353 (DC Cir. filed Nov. 4, 2008) the Commission extended to Verizon and Qwest forbearance from the statutory provision and Commission rules from the Cost Assignment Rules to the same extend granted AT&T in the AT&T Cost Assignment Forbearance Order and subject to the same conditions.

OMB Control Number: 3060-0760.

Title: Access Charge Reform, CC Docket No. 96-262, First Report and Order; Second Order on Reconsideration and Memorandum Opinion and order; and Fifth Report and Order.

Form No.: N/A.

Type of Review: Extension of a currently approved collection.

Respondents: Business or other for-profit.

Number of Respondents: 17 respondents; 887 responses.

Estimated Time per Response: 3-300 hours.

Frequency of Response: On occasion and one time reporting requirement.

Obligation to Respond: Required to obtain or retain benefits. Statutory authority for this information collection is contained in 47 U.S.C. 201-205 and 303(r).

Total Annual Burden: 28,835 hours.

Total Annual Cost: $736,760.

Privacy Act Impact Assessment: N/A.

Nature and Extent of Confidentiality: The information requested is not of a confidential nature. However, respondents may request materials or information submitted to the Commission be withheld from public inspection under 47 CFR 0.459 of the Commission's rules.

Needs and Uses: The Commission will submit this expiring information collection to the Office of Management and Budget (OMB) during this comment period in order to obtain the full three year clearance from them. The Commission is requesting OMB approval for an extension of the previous OMB approval—no change in the reporting requirements.

The Commission provides detailed rules for implementing the market-based approach, pursuant to which price cap LECs receive pricing flexibility in the provision of interstate access services as competition for those services develops. Also, to ensure the equitable regulatory treatment of all providers of in-region, long distance service, Bell Operating Companies (BOCs) must now comply with the requirements to submit a certification to the Commission prior to providing contract tariff services to itself or to any affiliate that is neither a section 272 nor a rule section 64.1903 separate affiliate.

Federal Communications Commission.
Marlene H. Dortch,
Secretary, Office of the Secretary, Office of Managing Director.

[FR Doc. 2011-18489 Filed 7-21-11; 8:45 am]

BILLING CODE 6712-01-P